DEPARTMENT OF DEFENSE

Office of the Secretary

Renewal of Department of Defense Federal Advisory Committees

AGENCY: DoD.

ACTION: Renewal of Federal Advisory Committee.

SUMMARY: Under the provisions of the Federal Advisory Committee Act of 1972, (5 U.S.C. Appendix, as amended), the Sunshine in the Government Act of 1976 (5 U.S.C. 552b, as amended), and 41 CFR 102-3.65, the Department of Defense gives notice that it is renewing the charter for the Board of Visitors Marine Corps University (hereafter referred to as the Board of Visitors).

The Board of Visitors, pursuant to 10 U.S.C. 7102(e), is a non-discretionary Federal advisory committee established to provide independent advice and recommendations on matters pertaining to all aspects of the academic and administrative policies of the Marine Corps University.

While the statute is silent on the criteria and number of committee members, the Secretary of Defense, in consultation with the Secretary of the Navy, has determined that no more than sixteen members will be appointed to the Board of Visitors. The Department of Defense, to achieve a balanced membership, will include a cross-section of experts and eminent authorities in the field of education and the fields of study at the Marine Corps University.

The terms of office for those members appointed by the Secretary of Defense shall be for four years and their appointments are renewed on an annual basis. The President of the Board of Visitors shall be appointed for a two-year term through a vote of the voting membership. Members of the Board of Visitors, who are not full-time or permanent part-time Federal employees, shall serve as Special Government Employees under the authority of 5 U.S.C. 3109. with the exception of travel and per diem for official travel, the members shall serve without compensation.

The Board of Visitors shall meet at the call of the Designated Federal officer, in consultation with the Board of Visitors President and the Commanding General, Marine Corps Combat Development Command. The Designated Federal Officer shall be a full-time or permanent part-time DoD employee, and shall be appointed in accordance with established DoD policies and procedures. The Designated Federal Officer or Alternate Designated Federal Officer shall attend all Board of Visitors' meetings and subcommittee meetings.

The Board of Visitors is authorized to establish subcommittees and workgroups, as necessary and consistent with its mission. Board of Visitors subcommittees and workgroups shall operate under the provisions of Federal Advisory Committee Act of 1972, the Sunshine in the Government Act of 1976, and other appropriate Federal regulations.

Board of Visitors subcommittees and workgroups shall not work independently of the Board of Visitors and shall report all their recommendations and advice to the Board of Visitors for full deliberation and discussion. Board of Visitors subcommittees and workgroups have no authority to make decisions on behalf of the Board of Visitors and may not report directly to the Department of Defense or any Federal officers or employees who are not members of the Board of Visitors.

Pursuant to the Federal Advisory Committee Act of 1972 and 41 CFR 102-3.140(c), members of the public or interested groups may submit written statements to the members of the Board of Visitors. Written statements may be submitted at any time to the Board of Visitors' Designated Federal Officer or in response to the stated agenda of a planned meeting.

The contact information for the Designated Federal Officer for the Board of Visitors Marine Corps University can be obtained from the GSA's FACA Database: https://www.fido.gov/facadatabase/public.asp.

FOR FURTHER INFORMATION CONTACT: Contact Frank Wilson, Committee Management Officer for the Department of Defense, 703-601-2554.

Dated: April 25, 2007.
L.M. Bynum,
Alternate OSD Federal Register Liaison Officer, Department of Defense.

[FR Doc. 07-2113 Filed 4-26-07; 10:22 am]

BILLING CODE 5001-06-M